DEPARTMENT OF HOUSING AND URBAN DEVELOPMENT

[Docket No. FR-5600-FA-40]

Announcement of Funding Awards for Fiscal Year 2012 Sustainable Construction in Indian Country Small Grant Program

AGENCY: Office of the Assistant Secretary for Policy Development and Research, HUD.

ACTION: Announcement of funding award.

SUMMARY: In accordance with Section 102(a)(4)(C) of the Department of Housing and Urban Development (HUD) Reform Act of 1989, this document notifies the public of funding awards for the Fiscal Year (FY) 2012 Sustainable Construction in Indian Country Small Grant (SCinIC) Program. The purpose of this document is to announce the names and addresses of the award winners and the amount of the award to be used to help develop, deploy, and disseminate innovative approaches of Sustainable Construction methods or practices that are suitable for Indian Country.

FOR FURTHER INFORMATION CONTACT: Michael D. Blanford, Affordable Housing Research and Technology, Office of Policy Development and Research, U.S. Department of Housing and Urban Development, Room 8134, 451 Seventh Street SW., Washington, DC 20410, Telephone at (202) 402-5728. Persons with speech or hearing impairments may call the Federal Relay Service TTY at 800-877-8339. Except for the “800” number, these telephone numbers are not toll-free. Individuals may also reach Mr. Blanford via email at Michael.D.Blanford@hud.gov.

SUPPLEMENTARY INFORMATION: HUD invited applicants to submit proposals for funding that encouraged the use of sustainable construction practices in Native American housing. Proposals were to take into account the multiple geographic, economic and cultural aspects of Native American residential design and construction. HUD sought applications in four broad areas: demonstration; technical assistance; curriculum development/training; and information dissemination related to sustainable construction in the Native Community. Activities performed under the Sustainable Construction in Indian Country Small Grant Program should document the impact of one or more innovative approaches to sustainable construction in Indian Country, identify a set of lessons learned, and then develop, deploy or distribute a tool highlighting those lessons. Grants could range from $50,000 to $100,000. Grants are awarded for up to a two-year period.

The Catalog of Federal Domestic Assistance number for this program is 14.525.

On February 5, 2013, HUD posted a Notice of Funds Availability (NOFA) for the Fiscal Year 2012 Transformation Initiative: Sustainable Construction in Indian Country Small Grant Program on Grants.gov. The Department reviewed, evaluated and scored the applications received based on the criteria in the NOFA. As a result, HUD has funded the applications announced below, and in accordance with Section 102(a)(4)(C) of the Department of Housing and Urban Development Reform Act of 1989 (103 Stat. 1987, U.S.C. 3545).

Dated: June 7, 2013.
Jean Lin Pao,
General Deputy Assistant Secretary for Policy Development and Research.

Attachment

List of Awardees for Grant Assistance Under the Fiscal Year (FY) 2012 Sustainable Construction in Indian Country Small Grant Program Funding Competition, by Institution, Address, and Grant Amount

1. Enterprise Community Partners, 10227 Wincopin Circle, Columbia, MD, 21044-3400. Grant: $100,000.

2. Sault Tribe Housing Authority, 154 Parkside, Kincheloe, Michigan 49788-0000. Grant: $100,000.

3. The Regents of the University of Colorado, 3100 Marine Street, Room 479, Boulder, Colorado 80303-1058. Grant: $100,000.

4. Aleutian Housing Authority, 520 E. 32nd Avenue, Anchorage, Alaska 99503-4104. Grant: $100,000.

[FR Doc. 2013-15992 Filed 7-2-13; 8:45 am]

BILLING CODE 4210-67-P